UNIFIED CARRIER REGISTRATION PLAN

Sunshine Act; Meeting

TIME AND DATE: March 3, 2022, from 1:30 p.m. to 4:30 p.m., Eastern time.

PLACE: This meeting will be accessible via conference call and screensharing. Any interested person may call 877-853-5247 (US toll free), 888-788-0099 (US toll free), +1 929-205-6099 (US toll), or +1 669-900-6833 (US toll), Conference ID 920 2493 9329, to participate in the meeting. The website to participate via Zoom meeting and screenshare is https://kellen.zoom.us/meeting/register/tJYtde2hrTIpGN1UxVfSCrLBaqt3I-sDBwzt.

STATUS: This meeting will be open to the public.

MATTERS TO BE CONSIDERED: The Unified Carrier Registration Plan Board of Directors (the “Board”) will continue its work in developing and implementing the Unified Carrier Registration Plan and Agreement. The subject matter of the meeting will include:

Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email followed by subsequent publication of the notice in the Federal Register.

III. Review and Approval of Board Agenda—UCR Board Chair

For Discussion and Possible Action

The proposed Agenda will be reviewed, and the Board will consider adoption.

Ground Rules

➢ Board actions taken only in designated areas on agenda.

IV. Approval of Board Minutes of the January 27, 2022 UCR Board Meeting—UCR Board Chair

For Discussion and Possible Action

Draft Minutes from the January 27, 2022 UCR Board meeting will be reviewed. The Board will consider action to approve.

V. Report of the Federal Motor Carrier Safety Administration (FMCSA)—FMCSA Representative

The FMCSA will provide a report on any relevant activity.

VI. Chief Legal Officer Report—UCR Chief Legal Officer

The UCR Chief Legal Officer will report on matters of interest to the UCR Plan.

VII. Engagement Letter Between the UCR Plan and the Bradley Law Firm—UCR Executive Director and UCR Board Chair

For Discussion and Possible Board Action

A general engagement letter between the UCR Plan and the Bradley Law Firm, covering the broad scope of legal issues directed to Alex Leath by the UCR Plan in calendar year 2022, will be presented to the UCR Board for its consideration and approval.

VIII. Subcommittee Reports

Audit Subcommittee—UCR Audit Subcommittee Chair

A. UCR Compliance Snapshot—UCR Audit Subcommittee Chair

The UCR Audit Subcommittee Chair will review audit compliance rates for the states for registration years 2020, 2021, and 2022 and will include compliance percentages for Focused Anomaly Reviews (FARs), retreat audits, and registration compliance percentages as mandated by the UCR Board. A new element has been added that focuses on the states' enforcement and citations actually issued versus the “Should Have Been” (“SHB”) road-stops that were not cited. The new feature ranks the states based on citation percentages.

B. Discuss the New IRP and IFTA Reports Available on the NRS—UCR Audit Subcommittee Chair and DSL Transportation Services, Inc. (DSL)

The UCR Audit Subcommittee Chair and DSL will discuss the value of following up on the Title 49 CFR 392.2 violations. The discussion will highlight the financial value to the states by vetting these companies for UCR compliance, commercial registration, IFTA, intrastate, interstate operating authority and safety compliance. Title 49 CFR 392.2 requires commercial motor vehicles to operate in accordance with the laws, ordinances, and regulations of the jurisdiction in which they are operating within.

C. Review 2022 Kansas SHB Report—Audit Subcommittee Chair, Verna Jackson, and DSL

The UCR Audit Subcommittee Chair, supported by Verna Jackson and DSL, will explain the Kansas review process. The discussion will focus on the value of following up on 49 CFR 392.2 violators to ensure both UCR and safety compliance, and the correlation between various NRS tools available to the states.

Finance Subcommittee—UCR Finance Subcommittee Chair

A. Redemption of Certificates of Deposit (CDs)—UCR Finance Subcommittee Chair and UCR Depository Manager

For Discussion and Possible Board Action

The UCR Finance Subcommittee Chair and UCR Depository Manager will discuss the opportunity to redeem up to two separate CDs prior to maturity and use the proceeds to purchase U.S. Treasury Bills which have higher income earning potential than CDs do. The Board may take action to redeem the CDs and use the proceeds to purchase U.S. Treasury Bills.

B. Fee Recommendation for 2023 Registration Year—UCR Comment—UCR Finance Subcommittee Chair and UCR Depository Manager

The UCR Finance Subcommittee Chair and the UCR Depository Manager will provide an update on the issuance of a comment to the FMCSA by UCR resulting from the Notice of Preliminary Rulemaking published on January 24, 2022. The comment updated the fee calculations by using more current data than was used in the original recommendation submitted to the Secretary of The U.S. Department of Transportation and the FMCSA in August 2021.

Education and Training Subcommittee—UCR Education and Training Subcommittee Chair

A. Update on Current and Future Training Initiatives—UCR Education and Training Subcommittee Chair

The UCR Education and Training Subcommittee Chair and the UCR Operations Manager will provide an update on the current and planned future training initiatives for the UCR Plan.

IX. Contractor Reports—UCR Executive Director

• UCR Executive Director's Report

The UCR Executive Director will provide a report covering recent activity for the UCR Plan.

• DSL Transportation Services, Inc.

DSL Transportation Services, Inc. will report on the latest data from the FARs program, discuss motor carrier inspection results, pilot projects and other matters.

• Seikosoft

Seikosoft will provide an update on recent/new activity related to the National Registration System.

• UCR Administrator Report (Kellen)

The UCR staff will provide a management report covering recent activity for the Depository, Operations, and Communications.

X. Other Business—UCR Board Chair

The UCR Board Chair will call for any other items Board members would like to discuss.

XI. Adjournment—UCR Board Chair

The UCR Board Chair will adjourn the meeting.

This agenda will be available no later than 5:00 p.m. Eastern time, February 23, 2022 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2022-04317 Filed 2-24-22; 4:15 pm]

BILLING CODE 4910-YL-P